CORPORATION FOR NATIONAL AND COMMUNITY SERVICE

Sunshine Act Notice

The Board of Directors of the Corporation for National and Community Service gives notice of the following meeting:

Date and Time: Wednesday, February 4, 2009, 10 a.m.-11:30 a.m.

Place: Corporation for National and Community Service; 8th Floor; 1201 New York Avenue, NW., Washington, DC 20525.

Status: Open.

Matters to be Considered:

I. Chair's Opening Remarks and Swearing in of New Member.

II. Consideration of Prior Meeting's Minutes.

III. CEO Report.

IV. Committee Reports.

V. Public Testimony on the Impact of the Economy on National Service Grantees.

VI. Honoring Departing Board Member.

VII. Public Comment.

Accommodations: Anyone who needs an interpreter or other accommodation should notify the Corporation's contact person by 5:00 p.m. Monday, February 4, 2009.

Contact Person for More Information: Lisa Guccione, Senior Policy Advisor, Office of the CEO, Corporation for National and Community Service, 10th Floor, Room 10207, 1201 New York Avenue, NW., Washington, DC 20525. Phone (202) 606-6637. Fax (202) 606-3460. TDD: (202) 606-3472. E-mail: lguccione@cns.gov.

Dated: January 27, 2009.
Frank R. Trinity,
General Counsel.

[FR Doc. E9-2115 Filed 1-28-09; 11:15 am]

BILLING CODE 6050-$$-P